NATIONAL INDIAN GAMING COMMISSION

Fee Rates

AGENCY: National Indian Gaming Commission.

ACTION: Notice.

SUMMARY: Notice is hereby given, pursuant to 25 CFR 514.1(a)(3), that the National Indian Gaming Commission has adopted final revised annual fee rates for calendar years 1996 and 1997. The rate for 1996 is 0.5% (.005) on tier 1 revenues and .152220872% (.00152220872) on tier 2 revenues; the rate for 1997 is .5% (.005) on tier 1 revenues and .119107745% (.00119107745) on tier 2 revenues. These rates shall apply to all assessable gross revenues from each gaming operation under the jurisdiction of the Commission.

FOR FURTHER INFORMATION CONTACT: Bobby Gordon, National Indian Gaming Commission, 1441 L Street, NW., Suite 9100, Washington, DC 20005; telephone 202/632-7003; fax 202/632-7066 (these are not toll-free numbers).

SUPPLEMENTARY INFORMATION: The Indian Gaming Regulatory Act established the National Indian Gaming Commission which is charged with, among other things, regulating gaming on Indian lands.

The regulations of the Commission, provide for a system of fee assessment and payment that is self-administered by gaming operations. Pursuant to those regulations, the Commission is required to adopt and communicate assessment rates; the gaming operations are required to apply those rates to their revenues, compute the fees to be paid, report the revenues, and remit the fees to the Commission on a quarterly basis.

The regulations of the Commission and the final revised annual rates being adopted today are effective for calendar years 1996 and 1997. As a result, the Commission shall credit each gaming operation pro-rata fees collected in excess of $1,500,000.00 during those years. The Commission will notify each gaming operation as to the amounts of overpayments, if any; and therefore the amounts of credit to be taken against the next quarterly payment(s) otherwise due.

Richard B. Schiff,
Acting Chief of Staff, National Indian Gaming Commission.

[FR Doc. 03-5785 Filed 3-10-03; 8:45 am]

BILLING CODE 7565-01-M